DEPARTMENT OF ENERGY

Federal Energy Regulatory Commission

[Project No. 14861-000]

FFP Project 101, LLC; Notice of Preliminary Permit Application Accepted for Filing and Soliciting Comments, Motions To Intervene, and Competing Applications

On October 20, 2017, FFP Project 101, LLC filed an application for a preliminary permit, pursuant to section 4(f) of the Federal Power Act, proposing to study the feasibility of the Goldendale Energy Storage Project (project) to be located near Goldendale in Klickitat County, Washington and Sherman County, Oregon. The sole purpose of a preliminary permit, if issued, is to grant the permit holder priority to file a license application during the permit term. A preliminary permit does not authorize the permit holder to perform any land-disturbing activities or otherwise enter upon lands or waters owned by others without the owners' express permission.

The proposed project will be closed-loop. Water to initially fill the reservoirs and required make-up water will be pumped from the Columbia River via an existing pumphouse. The proposed project would consist of an upper and lower reservoir, an underground water conveyance system connecting the two reservoirs, an underground powerhouse, and a transmission line. The lower reservoir would be formed by a 7,400-foot-long, 170-foot-high rockfill embankment, with storage capacity of 7,100 acre-feet at maximum water surface elevation of 580 feet and surface area of 62 acres. The upper reservoir would be formed by an 8,000-foot-long, 170-foot-high rockfill embankment, with storage capacity of 7,100 acre-feet at maximum water surface elevation of 2,940 feet and surface area of 59 acres. Water would be conveyed from the upper reservoir to the lower reservoir via a 5,000-foot-long, concrete and steel tunnel with internal diameters ranging from 20 to 29 feet, and a 600-foot-long, 15-foot-diameter steel/concrete penstock. The powerhouse would contain three, 400-megawatt (MW) Francis-type pump-turbine units for a total installed capacity of 1,200 MW. Project power would be transmitted through a new 5-mile-long, 500-kilovolt transmission line from the powerhouse to Bonneville Power Administration's John Day Substation.

The estimated averaged annual generation of the project would be 3,500 gigawatt-hours.

Applicant Contact: Erik Steimle, Rye Development, 745 Atlantic Ave. 8th Floor, Boston, MA 02111, phone (503) 998-0230.

FERC Contact: Kim Nguyen, (202) 502-6105.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14861-000.

More information about this project, including a copy of the application, can be viewed or printed on the “eLibrary” link of Commission's website at http://www.ferc.gov/docs-filing/elibrary.asp. Enter the docket number (P-14861) in the docket number field to access the document. For assistance, contact FERC Online Support.

Dated: December 15, 2017.
Nathaniel J. Davis, Sr.,
Deputy Secretary.

[FR Doc. 2017-27497 Filed 12-20-17; 8:45 am]

BILLING CODE 6717-01-P